DEPARTMENT OF ENERGY

Federal Energy Regulatory Commission

Notice of Effectiveness of Exempt Wholesale Generator Status

| Docket No.
Blythe Mesa Solar II, LLC | EG21-164-000
Corazon Energy, LLC | EG21-165-000
Trent River Solar Mile Lessee, LLC | EG21-166-000
Golden Hills Wind Farm LLC | EG21-167-000
CED Crane Solar, LLC | EG21-168-000
BRP Sweeny BESS LLC | EG21-169-000
Lincoln Land Wind, LLC | EG21-170-000
ES 1A Group 2 Opco, LLC | EG21-171-000
Edwards Sanborn Storage I, LLC | EG21-172-000
ES 1A Group 3 Opco, LLC | EG21-173-000
Edwards Solar Line I, LLC | EG21-174-000
Prairie Wolf Solar, LLC | EG21-175-000
Daylight I, LLC | EG21-176-000
Sanborn Solar Line I, LLC | EG21-177-000
Edwards Sanborn Storage II, LLC | EG21-178-000
Clover Creek Solar, LLC | EG21-179-000
Antelope Expansion 1B, LLC | EG21-180-000
Ensign Wind Energy, LLC | EG21-181-000
Independence Wind Energy LLC | EG21-182-000
Glass Sands Wind Energy, LLC | EG21-183-000
Board River Solar, LLC | EG21-184-000
CPRE 1 Lessee, LLC | EG21-185-000
Speedway Solar NC, LLC | EG21-186-000
Stony Knoll Solar, LLC | EG21-187-000
Lancaster Solar LLC | EG21-188-000
SR Georgia Portfolio II Lessee, LLC | EG21-189-000
SR Lumpkin, LLC | EG21-190-000
SR Snipesville II, LLC | EG21-191-000
Jayhawk Wind, LLC | EG21-192-000
Minonk Stewardship Wind LLC | EG21-193-000

Take notice that during the month of August 2021, the status of the above-captioned entities as Exempt Wholesale Generators became effective by operation of the Commission's regulations. 18 CFR 366.7(a) (2020).

Dated: September 15, 2021.
Debbie-Anne A. Reese,
Deputy Secretary.

[FR Doc. 2021-20383 Filed 9-20-21; 8:45 am]

BILLING CODE 6717-01-P